DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Application for Certification and Recertification as a Federally Qualified Health Center (FQHC) Look-Alike (OMB No. 0915-0142): Extension

HRSA proposes to extend the application guide used by organizations applying for certification or recertification as a Federally Qualified Health Center (FQHC) Look-Alike for purposes of cost-based reimbursement under the Medicaid and Medicare programs. The requirements described in the application guide are for health centers that serve a population that is medically underserved as defined in section 330 of the Public Health Service (PHS) Act. The estimated burden is as follows:

Form | Number of respondents | Responses per respondent | Hours per response | Total Burden Hours
Application | 40 | 1 | 100 | 4,000
Recertification | 100 | 1 | 15 | 1,500
Total | 140 |  |  | 5,500

Comments and recommendations concerning the proposed information collection should be sent within 30 days of this notice to: John Kraemer, Human Resources and Housing Branch, Office of Management and Budget, New Executive Office Building, Room 10235, Washington, DC 20503.

Dated: August 15, 2005.
Tina M. Cheatham,
Director, Division of Policy Review and Coordination.

[FR Doc. 05-16503 Filed 8-19-05; 8:45 am]

BILLING CODE 4165-15-P